DEPARTMENT OF DEFENSE

Department of the Army; Corps of Engineers

Intent To Prepare an Environmental Impact Statement for Improvements to the Freeport Harbor Navigation Project, Brazoria County, TX

AGENCY: Department of the Army, U.S. Army Corps of Engineers, DoD.

ACTION: Notice of Intent.

SUMMARY: The U.S. Army Corps of Engineers, Galveston District, is issuing this notice to announce its intent to prepare a Draft Environmental Impact Statement (DEIS), for the proposed deepening and widening of the deep-draft Freeport Harbor Navigation Project, connecting port facilities in Freeport to the Gulf of Mexico. The District will conduct a study to evaluate deepening and widening alternatives, and dredged material disposal options, which will include both upland confined disposal and ocean disposal at designated sites in the Gulf of Mexico.

The Freeport Harbor Navigation Project study area is located on the mid to upper Texas coast in Brazoria County, TX, extending from approximately 3 miles offshore at the 60-foot depth contour in the Gulf of Mexico, through the jettied Freeport Harbor entrance channel upstream to the Stauffer Channel Turing Basin. Depths and widths of up to 60-feet and 600-feet respectively are being considered from seaward, along with varying dimensions for upstream reaches and basins. The non-federal sponsor is the Brazos River Harbor Navigation District.

ADDRESSES: U.S. Army Corps of Engineers, Galveston District, P.O. Box 1229, Galveston, TX 77553-1229.

FOR FURTHER INFORMATION CONTACT: Mr. Mike Bragg, Project Manager—Project Management Branch, (409) 766-3979; or Mr. George Dabney, Environmental Lead—Planning and Environmental Branch, (409) 766-6345.

SUPPLEMENTARY INFORMATION: The existing navigation project, completed in 1996, is approximately 8.6 miles in length. The project's primary reaches and basins include a 47-foot deep, 400-foot wide entrance channel; a 45-foot deep, 400-foot wide main channel; 45-foot deep turning basins (with 750, 1,000 and 1,200-foot diameters); and a 36-foot deep, 750-foot diameter Brazos Harbor Turning Basin. The existing project encompasses numerous industrial and shipping facilities, located in or adjacent to the Port of Freeport, TX. The non-federal sponsor, the Brazos River Harbor Navigation District, seeks to increase navigation safety and efficiency, and to enhance its competitiveness by improving the existing project to attract larger, deeper draft vessels including LNG tankers, crude carriers and container ships.

To explore the feasibility of proposed project improvements, the non-federal sponsor has partnered with the U.S. Army Corps of Engineers, Galveston District, to conduct a feasibility study for determining optimum depths and widths necessary to safely accommodate current and projected navigation needs. Section 216 of the Flood Control Act of 1970, Public Law 91-611, authorizes the proposed deepening and widening improvements of the existing navigation project.

Project alternatives under evaluation include maintaining primary channel reaches at their existing dimensions (No Action Alternative), or, deepening and widening reaches to either 60 x 540 feet or 55 x 600 feet respectively. The remaining project reaches and basins will be deepened, widened or expanded to compatible dimensions.

The scoping process for public input will involve Federal, State, and local agencies, along with other interested parties and entities. Coordination with natural resources and environmental agencies will be conducted under the Fish and Wildlife Coordination Act, Endangered Species Act, Clear Water Act, Clean Air Act, National Historic Preservation Act, Magnuson-Stevens Fishery Conservation and Management Act, and the Coastal Zone Management Act. Public scoping meetings will also be held to discuss environmental issues associated with proposed channel improvements.

Issues to be considered during the public review and input process include: water and sediment quality, air and noise quality, hazardous, toxic and radiological waste, dredged material disposal, economics, threatened and endangered species, wetlands, historic properties, aesthetics, recreation, cumulative impacts, impact mitigation for natural resources, and other issues affecting public health and welfare. Any person or organization wishing to provide information on issues or concerns should contact the Galveston District Corps of Engineers at (see ADDRESSES).

It is estimated the DEIS will be available for public review and comment in April 2008.

Richard Medina,
Chief, Planning and Environmental Branch.

[FR Doc. 07-3817 Filed 8-2-07; 8:45 am]

BILLING CODE 3710-52-M